DEPARTMENT OF AGRICULTURE

Rural Housing Service

Notice of Funds Availability (NOFA) Inviting Applications for the Rural Community Development Initiative (RCDI) for Fiscal Year 2013

AGENCY: Rural Housing Service, USDA.

ACTION: Notice; correction.

SUMMARY: The Rural Housing Service published a document in the Federal Register on August 14, 2013, announcing the availability of $5,676,077 for competitive grant funds for the Rural Community Development Initiative (RCDI) program. This action is taken to correct the Rural Development State Office contact information.

Correction

In the Federal Register of August 14, 2013, in FR Doc. 2013-19773, on page 49451, in the second column, the Rural Development Arizona State Office phone number should read (602) 280-8745.

Correction

In the Federal Register of August 14, 2013, in FR Doc. 2013-19773, on page 49451, in the third column, the Rural Development Florida State Office phone number should read (352) 338-3440.

Correction

In the Federal Register of August 14, 2013, in FR Doc. 2013-19773, on page 49451, in the third column, the Rural Development Georgia State Office phone number should read (706) 546-2171.

Correction

In the Federal Register of August 14, 2013, in FR Doc. 2013-19773, on page 49451, in the third column, the Rural Development Illinois State Office TDD phone number was removed.

Correction

In the Federal Register of August 14, 2013, in FR Doc. 2013-19773, on page 49451, in the third column, the listing for the Rural Development Maine State Office, address to contact should read:

Maine State Office, 967 Illinois Avenue, Suite 4, Bangor, ME 04401-2767, (207) 990-9124, TDD (207) 942-7331; Ron Lambert

Correction

In the Federal Register of August 14, 2013, in FR Doc. 2013-19773, on page 49452, in the first column, the Rural Development New York State Office phone number should read (315) 477-6429.

Correction

In the Federal Register of August 14, 2013, in FR Doc. 2013-19773, on page 49452, in the first column, the listing for the Rural Development Oklahoma State Office, address to contact should read:

Oklahoma State Office, 3001 Azalea Park Drive, Muskogee, OK 74401, (918) 682-8831, TDD (405) 742-1007, Jerry Efurd

Correction

In the Federal Register of August 14, 2013, in FR Doc. 2013-19773, on page 49452, in the first and second columns, the listing for the Rural Development Vermont State Office, address to contact should read:

Vermont State Office, 87 State Street, Suite 324, P.O. Box 249, Montpelier, VT 05601-0249, (802) 828-6033, TDD (802) 223-6365, Rhonda Shippee

Correction

In the Federal Register of August 14, 2013, in FR Doc. 2013-19773, on page 49452, in the second column, the Rural Development Virginia State Office phone number should read (804) 287-1557.

Correction

In the Federal Register of August 14, 2013, in FR Doc. 2013-19773, on page 49452, in the second column, the listing for the Rural Development Wisconsin State Office, address to contact should read:

Wisconsin State Office, 5417 Clem's Way, Stevens Point, WI 54482, (715) 345-7615, TDD (715) 345-7610, Brian Deaner

Dated: August 22, 2013.
Richard A. Davis,
Acting Administrator, Rural Housing Service.

[FR Doc. 2013-22308 Filed 9-12-13; 8:45 am]

BILLING CODE 3410-XV-P